DEPARTMENT OF ENERGY

Federal Energy Regulatory Commission

Combined Notice of Filings #2

Take notice that the Commission received the following electric rate filings:

Docket Numbers: ER17-1167-002.

Applicants: New York Independent System Operator, Inc.

Description: Compliance filing: Compliance Effective Date Notice for BoP TCC Auctions to be effective 8/1/2017.

Filed Date: 7/18/17.

Accession Number: 20170718-5114.

Comments Due: 5 p.m. ET 8/8/17.

Docket Numbers: ER17-2107-000.

Applicants: Southwestern Public Service Company.

Description: § 205(d) Rate Filing: SPS-GSEC-SPEC-IA-T-L-Milwaukee-684-0.0.0 to be effective 9/18/2017.

Filed Date: 7/19/17.

Accession Number: 20170719-5053.

Comments Due: 5 p.m. ET 8/9/17.

Docket Numbers: ER17-2108-000.

Applicants: New York Independent System Operator, Inc.

Description: § 205(d) Rate Filing: NYISO 205 filing re: Remove Bond Funds from Cash Collateral Investment Options to be effective 9/18/2017.

Filed Date: 7/19/17.

Accession Number: 20170719-5078.

Comments Due: 5 p.m. ET 8/9/17.

Docket Numbers: ER17-2109-000.

Applicants: PJM Interconnection, L.L.C., Old Dominion Electric Cooperative.

Description: § 205(d) Rate Filing: Third Revised Service Agreement No. 3746—NITSA among PJM and ODEC to be effective 7/1/2017.

Filed Date: 7/19/17.

Accession Number: 20170719-5091.

Comments Due: 5 p.m. ET 8/9/17.

Docket Numbers: ER17-2110-000.

Applicants: ISO New England Inc.

Description: Permanent De-List Bids and Retirement De-List Bids Submitted for 2021-22 Forward Capacity of ISO New England Inc.

Filed Date: 7/19/17.

Accession Number: 20170719-5102.

Comments Due: 5 p.m. ET 8/9/17.

Docket Numbers: ER17-2111-000.

Applicants: Otter Tail Power Company.

Description: § 205(d) Rate Filing: Amendment and Restatement of Otter Tail Rate Schedule No. 110 to be effective 7/30/2010.

Filed Date: 7/19/17.

Accession Number: 20170719-5108.

Comments Due: 5 p.m. ET 8/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2017.
Kimberly D. Bose,
Secretary.

[FR Doc. 2017-15549 Filed 7-24-17; 8:45 am]

BILLING CODE 6717-01-P